DEPARTMENT OF TRANSPORTATION

Federal Railroad Administration

[Docket Number FRA-2021-0034]

Notice of Application for Approval of Discontinuance or Modification of a Railroad Signal System

Under part 235 of title 49 of the Code of Federal Regulations (CFR) and 49 U.S.C. 20502(a), this document provides the public notice that on March 9, 2021, Appalachian and Ohio Railroad, Inc. (A&O) and CSX Transportation (CSXT) jointly petitioned the Federal Railroad Administration (FRA) seeking approval to discontinue or modify a signal system. FRA assigned the petition Docket Number FRA-2021-0034.

Applicants: Appalachian and Ohio Railroad, Inc., J. Thomas Garrett, President, 200 Clark Street, Paducah, KY 42003

CSX Transportation, Carl A. Walker, Chief Engineer Communications and Signals, 500 Water Street, Speed Code J-350, Jacksonville, FL 32202

Specifically, A&O and CSXT request approval to discontinue the traffic control system (TCS) on CSXT owned, dispatched, and maintained trackage, being leased and operated by A&O. The track spans from, but does not include, control point (CP) Berkeley Run Junction, milepost (MP) BUC 0.0 Grafton, West Virginia, to CP Hampton Junction, MP BUC 42.1, Buckhannon, West Virginia, including signaled sidings. A&O will install a new and modern broken rail detection system (BRDS) in Philippi, West Virginia, from MP 13.3 to MP 16.4, and Buckhannon, West Virginia, from MP 32.2 through MP 39.3, on the Cowen District Main Line, and in Pleasant Creek Bridge, MP 5.5 through MP 7.2.

If this modification is made, the entire A&O will operate under Track Warrant Control Rules and will be dispatched by A&O. The BRDS will be designed to detect broken rails and misaligned switches. Switch circuit controllers and normally energized shunt-sensitive track circuits will constantly monitor switch positions and rail integrity. Each BRDS block will be defined by wayside indicators for displaying block information to train crews at the block's entrance. A&O and CSXT state the reasons for the proposed changes are that traffic volumes do not warrant TCS and that the current signal system is obsolete and replacement components are difficult to obtain or unavailable from vendors.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal Holidays.

Communications received by May 20, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also http://www.regulations.gov/#!privacyNotice for the privacy notice of regulations.gov.

Issued in Washington, DC.
John Karl Alexy,
Associate Administrator for Railroad Safety, Chief Safety Officer.

[FR Doc. 2021-06948 Filed 4-2-21; 8:45 am]

BILLING CODE 4910-06-P